FEDERAL ELECTION COMMISSION

[Notice 2013-06]

Filing Dates for the Massachusetts Senate Special Elections

AGENCY: Federal Election Commission.

ACTION: Notice of filing dates for special election.

SUMMARY: Massachusetts has scheduled special elections on April 30, 2013, and June 25, 2013, to fill the U.S. Senate seat vacated by Secretary John F. Kerry.

Committees required to file reports in connection with the Special Primary Election on April 30, 2013, shall file a 12-day Pre-Primary Report. Committees required to file reports in connection with both the Special Primary and Special General Election on June 25, 2013, shall file a 12-day Pre-Primary Report, 12-day Pre-General, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Massachusetts Special Primary and Special General Elections shall file a 12-day Pre-Primary Report on April 18, 2013; a 12-day Pre-General on June 13, 2013; and a 30-day Post-General Report on July 25, 2013. (See charts below for the closing date for each report.)

All principal campaign committees of candidates participating only in the Special Primary Election shall file a 12-day Pre-Primary Report on April 18, 2013. (See charts below for the closing date for each report.)

Unauthorized Committees (PACs and Party Committees)

Political committees filing on a semi-annual basis in 2013 are subject to special election reporting if they make previously undisclosed contributions or expenditures in connection with the Massachusetts Special Primary or Special General Elections by the close of books for the applicable report(s). (See charts below for the closing date for each report.)

Committees filing monthly that make contributions or expenditures in connection with the Massachusetts Special Primary or General Elections will continue to file according to the monthly reporting schedule.

Additional disclosure information in connection with the Massachusetts Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,100 during the special election reporting periods (see charts below for closing date of each period). 11 CFR 104.22(a)(5)(v) and (b).

Calendar of Reporting Dates for Massachusetts Special Election
Report | Close of books ¹ | Reg./Cert. & overnight mailing deadline | Filing deadline
Quarterly Filing Committees Involved in Only the Special Primary (04/30/13) Must File:
April Quarterly | WAIVED
Pre-Primary | 04/10/13 | 04/15/13 | 04/18/13
July Quarterly | 06/30/13 | 07/15/13 | 07/15/13
Semi-Annual Filing Committees Involved in Only the Special Primary (04/30/13) Must File:
Pre-Primary | 04/10/13 | 04/15/13 | 04/18/13
Mid-Year | 06/30/13 | 07/31/13 | 07/31/13
Quarterly Filing Committees Involved in Both the Special Primary (04/30/13) and Special General (06/25/13) Must File:
April Quarterly | WAIVED
Pre-Primary | 04/10/13 | 04/15/13 | 04/18/13
Pre-General | 06/05/13 | 06/10/13 | 06/13/13
July Quarterly | WAIVED
Post-General | 07/15/13 | 07/25/13 | 07/25/13
October Quarterly | 09/30/13 | 10/15/13 | 10/15/13
Semi-Annual Filing Committees Involved in Both the Special Primary (04/30/13) and Special General (06/25/13) Must File:
Pre-Primary | 04/10/13 | 04/15/13 | 04/18/13
Pre-General | 06/05/13 | 06/10/13 | 06/13/13
Post-General | 07/15/13 | 07/25/13 | 07/25/13
Mid-Year | WAIVED
Year-End | 12/31/13 | 01/31/14 | 01/31/14
Quarterly Filing Committees Involved In Only the Special General (06/25/13) Must File:
Pre-General | 06/05/13 | 06/10/13 | 06/13/13
July Quarterly | WAIVED
Post-General | 07/15/13 | 07/25/13 | 07/25/13
October Quarterly | 09/30/13 | 10/15/13 | 10/15/13
Semi-Annual Filing Committees Involved in Only the Special General (06/25/13) Must File:
Pre-General | 06/05/13 | 06/10/13 | 06/13/13
Post-General | 07/15/13 | 07/25/13 | 07/25/13
Mid-Year | WAIVED
Year-End | 12/31/13 | 01/31/14 | 01/31/14
¹ The reporting period always begins the day after the closing date of the last report filed. If the committee is new and has not previously filed a report, the first report must cover all activity that occurred before the committee registered as a political committee up through the close of books for the first report due.

Dated: February 6, 2013.
On behalf of the Commission,
Ellen L. Weintraub,
Chair, Federal Election Commission.

[FR Doc. 2013-03225 Filed 2-12-13; 8:45 am]

BILLING CODE 6715-01-P